DEPARTMENT OF DEFENSE

Office of the Secretary

[Transmittal No. 20-57]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 20-57 with attached Policy Justification and Sensitivity of Technology.

Dated: November 19, 2020.
Kayyonne T. Marston,
Alternate OSD Federal Register Liaison Officer, Department of Defense.

BILLING CODE 5001-06-P

BILLING CODE 5001-06-C

Transmittal No. 20-57

Notice of Proposed Issuance of Letter of Offer Pursuant to Section 36(b)(1) of the Arms Export Control Act, as Amended

(i) Prospective Purchaser: Government of Spain.

(ii) Total Estimated Value:

Major Defense Equipment * | $237.0 million
Other | $ 11.5 million
Total | $248.5 million

(iii) Description and Quantity or Quantities of Articles or Services under Consideration for Purchase:

Major Defense Equipment (MDE):

One hundred (100) AIM-120C-7/8 Advanced Medium Range Air-to-Air Missiles (AMRAAM)

One (1) AMRAAM Guidance Section (spare)

Non-MDE: Also included are KGV-135A encryption devices; containers; weapon support and support equipment; spare and repair parts; publications and technical documentation; U.S. Government and contractor engineering, technical, and logistics support services; and other related elements of logistical and program support.

(iv) Military Department: Air Force (SP-D-YAI).

(v) Prior Related Cases, if any: None.

(vi) Sales Commission, Fee, etc., Paid, Offered, or Agreed to be Paid: None.

(vii) Sensitivity of Technology Contained in the Defense Article or Defense Services Proposed to be Sold: See Attached Annex.

(viii) Date Report Delivered to Congress: September 2, 2020.

* As defined in Section 47(6) of the Arms Export Control Act.

POLICY JUSTIFICATION

Spain—AIM-120C Advanced Medium Range Air-to-Air Missile (AMRAAM)

The Government of Spain has requested to buy one hundred (100) AIM-120C-7/8 Advanced Medium Range Air-to-Air Missiles (AMRAAM) and one (1) AMRAAM Guidance Section (spare). Also included are KGV-135A encryption devices; containers; weapon support and support equipment; spare and repair parts; publications and technical documentation; U.S. Government and contractor engineering, technical, and logistics support services; and other related elements of logistical and program support. The estimated total cost is $248.5 million.

This proposed sale will support the foreign policy and national security of the United States by improving the security of a NATO ally which is an important force for political stability and economic progress in Europe. It is vital to the U.S. national interest to assist Spain in developing and maintaining a strong and ready self-defense capability.

This proposed sale will improve Spain's capability to meet current and future threats by increasing its stocks of AMRAAMs for its fighter aircraft fleets in support of national defense. The potential sale will further strengthen the interoperability between the United States and Spain. Spain will have no difficulty absorbing these additional missiles into its armed forces.

The proposed sale of this equipment and support will not alter the basic military balance in the region.

The prime contractor will be Raytheon Missiles and Defense, Tucson, AZ. There are no known offset arrangements proposed in connection with this potential sale.

Implementation of this sale will not require the assignment of U.S. Government or contractor representatives in Spain.

There will be no adverse impact on U.S. defense readiness as a result of this proposed sale.

Transmittal No. 20-57

Notice of Proposed Issuance of Letter of Offer Pursuant to Section 36(b)(1) of the Arms Export Control Act

Annex

Item No. vii

(vii) Sensitivity of Technology:

1. The AIM-120C-7/C-8 AMRAAM is a supersonic, air launched, aerial intercept, guided missile featuring digital technology and micro-miniature solid-state electronics. Purchase will include AMRAAM Guidance Section spares. AMRAAM capabilities include look-down/shootdown, multiple launches against multiple targets, resistance to electronic countermeasures, and interception of high- and low-flying and maneuvering targets. The AIM-120C-8 is a form, fit, function refresh of the AIM-120C-7 and is the next generation to be produced.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that Spain can provide substantially the same degree of protection for the sensitive technology being released as the U.S. Government. This sale is necessary in furthering U.S. foreign policy and national security objectives outlined in the Policy Justification.

5. All defense articles and services listed in this transmittal have been authorized for release and export to Spain.

[FR Doc. 2020-26010 Filed 11-24-20; 8:45 am]

BILLING CODE 5001-06-P